DEPARTMENT OF COMMERCE

National Oceanic and Atmospheric Administration

RIN 0648-XR61

Marine Mammals; File No. 14535

AGENCY: National Marine Fisheries Service (NMFS), National Oceanic and Atmospheric Administration (NOAA), Commerce.

ACTION: Notice; receipt of application for permit amendment.

SUMMARY: Notice is hereby given that Colleen Reichmuth, Ph.D., University of California at Santa Cruz, Long Marine Laboratory, 100 Shaffer Road, Santa Cruz, CA, has applied in due form for an amendment to scientific research Permit No. 14535.

DATES: Written, telefaxed, or e-mail comments must be received on or before July 29, 2010.

ADDRESSES: The application and related documents are available for review by selecting “Records Open for Public Comment” from the Features box on the Applications and Permits for Protected Species home page, https://apps.nmfs.noaa.gov, and then selecting File No. 14535 from the list of available applications.

These documents are also available upon written request or by appointment in the following office(s):

Permits, Conservation and Education Division, Office of Protected Resources, NMFS, 1315 East-West Highway, Room 13705, Silver Spring, MD 20910; phone (301)713-2289; fax (301)713-0376;

Alaska Region, NMFS, P.O. Box 21668, Juneau, AK 99802-1668; phone (907)586-7221; fax (907)586-7249; and

Southwest Region, NMFS, 501 West Ocean Blvd., Suite 4200, Long Beach, CA 90802-4213; phone (562)980-4001; fax (562)980-4018.

Written comments on this application should be submitted to the Chief, Permits, Conservation and Education Division, at the address listed above. Comments may also be submitted by facsimile to (301)713-0376, or by email to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Amy Sloan or Jennifer Skidmore, (301)713-2289.

SUPPLEMENTARY INFORMATION: The subject amendment to Permit No.14535 is requested under the authority of the Marine Mammal Protection Act of 1972, as amended (16 U.S.C. 1361 et seq.), and the regulations governing the taking and importing of marine mammals (50 CFR part 216).

Permit No. 14535, issued on December 7, 2009 (74 FR 65748), authorizes psychological and physiological research annually on up to two captive harbor seals (Phoca vitulina), two California sea lions (Zalophus californianus), and two northern elephant seals (Mirounga angustirostris) at Long Marine Laboratory, which are trained to voluntarily participate in studies designed to evaluate their perceptual and cognitive capabilities. The permit expires on December 31, 2014.

The permit holder requests an amendment to add two non-releasable animals of each of the following species to the captive research program: ringed seal (Phoca hispida), bearded seal (Erignathus barbatus), and spotted seal (Phoca largha). The purpose is to expand the comparative understanding of basic perceptual and cognitive function among pinnipeds and to assess potential impacts of human noise on marine mammals. The proposed amendment is for the duration of the permit.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: June 23, 2010.
Tammy C. Adams,
Acting Chief, Permits, Conservation and Education Division, Office of Protected Resources, National Marine Fisheries Service.

[FR Doc. 2010-15769 Filed 6-28-10; 8:45 am]

BILLING CODE 3510-22-S